DEPARTMENT OF THE INTERIOR

Bureau of Land Management

[LLNVS0100.L51010000.ER0000. LVRWF09F8770; NVN-085077 and NVN- 085801; 09-08807; TAS: 14X5017]

Notice of Reopening of Public Comment Period To Prepare an Environmental Impact Statement for the Proposed NextLight Renewable Power, LLC, Silver State North and Silver State South Solar Projects, Primm, NV

AGENCY: Bureau of Land Management, Interior.

ACTION: Notice.

SUMMARY: The Bureau of Land Management (BLM) is reopening the public comment period to prepare an Environmental Impact Statement (EIS) for the Proposed NextLight Renewable Power, LLC, Silver State North Solar Project and Silver State South Solar Project, to be located in Clark County, Nevada. A notice published in the Federal Register on June 30, 2009 [74 FR 31306] provided for a public comment period ending on July 30, 2009.

DATES: On publication of this notice an additional 30-day scoping period will open for comments through October 19, 2009. Comments received during the interim time between scoping periods will be accepted.

ADDRESSES: Submit comments related to the project by any of the following methods:

• E-mail: Nextlight_Primm_NV_SEP@blm.gov.

• Fax: (702) 515-5010, Attn: Gregory Helseth.

• Mail: BLM, Las Vegas Field Office, Attn: Gregory Helseth, 4701 North Torrey Pines Drive, Las Vegas, NV 89130-2301.

FOR FURTHER INFORMATION CONTACT: Gregory Helseth, Renewable Energy Project Manager, (702) 515-5173; or e-mail Nextlight_Primm_NV_SEP@blm.gov.

(Authority: 43 CFR Part 2800)

Ron Wenker,
State Director, Nevada.

[FR Doc. E9-22434 Filed 9-16-09; 8:45 am]

BILLING CODE 4310-HC-P